DEPARTMENT OF HEALTH AND HUMAN SERVICES

National Institutes of Health

Notice of a Conference Call of a Working Group of the NIH Blue Ribbon Panel

The purpose of this notice is to inform the public about a conference call of the NIH Blue Ribbon Panel to Advise on the Risk Assessment of the National Emerging Infectious Diseases Laboratories at Boston University Medical Center. This meeting is the first in a series of public meetings to review and discuss the ongoing supplementary risk assessment study.

The conference call will be held on Tuesday, April 7, 2009 from approximately 11 a.m. to 1 p.m. The toll-free number to participate in the call is 1-800-779-2616. Indicate to the conference operator that your participant passcode is “NIH.”

The panel will review earlier National Research Council (NRC) recommendations regarding a supplementary risk assessment study, Blue Ribbon Panel recommendations regarding various aspects of the risk assessment study, and a new Statement of Task for the NRC.

Public comment will begin at approximately 12:45 p.m. In the event that time does not allow for all those interested to present oral comments, anyone may file written comments by sending them to the address below. Comments should include the name, address, telephone number and when applicable, the business or professional affiliation of the commenter.

A draft agenda and slides for the meeting may be obtained by connecting to http://nihblueribbonpanel-bumc-neidl.od.nih.gov/. For additional information concerning this meeting, contact Ms. Laurie Lewallen, Advisory Committee Coordinator, Office of Biotechnology Activities, Office of Science Policy, Office of the Director, National Institutes of Health, 6705 Rockledge Drive, Room 750, Bethesda, MD 20892-7985; telephone 301-496-9838; e-mail lewallenl@od.nih.gov.

Dated: March 31, 2009.
Amy P. Patterson,
Acting Director, Office of Science Policy, National Institutes of Health.

[FR Doc. E9-7704 Filed 4-2-09; 8:45 am]

BILLING CODE 4140-01-P